DEPARTMENT OF JUSTICE

Parole Commission

[5 U.S.C. Section 552b]

Public Announcement; Pursuant To The Government In the Sunshine Act (Public Law 94-409)

AGENCY HOLDING MEETING: Department of Justice, United States Parole Commission.

TIME AND DATE: 9:30 a.m. Thursday, March 14, 2002.

PLACE: 5550 Friendship Blvd., Fourth Floor, Chevy Chase, MD 20815.

STATUS: Open.

MATTERS TO BE CONSIDERED: The following matters have been placed on the agenda for the open Parole Commission meeting:

1. Approval of minutes of Previous Commission Meeting.

2. Reports from the Chairman, Commissioners, Legal, Chief of Staff, Case Operations, and Administrative Sections.

3. Adoption of retroactive application of 28 CFR 2.80.

4. Adoption of informal policy regarding participation in employment training.

AGENCY CONTACT: Sam Robertson, Case Operations, United States Parole Commission, (301) 492-5962.

Dated: March 7, 2002.
Michael Stover,
Deputy General Counsel, U.S. Parole Commission.

[FR Doc. 02-5959 Filed 3-8-02; 11:32 am]

BILLING CODE 4410-31-M